DEPARTMENT OF THE INTERIOR

Fish and Wildlife Service

Final Bison and Elk Management Plan and Environmental Impact Statement

AGENCY: Fish and Wildlife Service, National Park Service, Interior.

ACTION: Notice of availability.

SUMMARY: The U.S. Fish and Wildlife Service and the National Park Service, U.S. Department of the Interior, as lead agencies, announce the fnal Bison and Elk Management Plan (Plan) and Environmental Impact Statement (EIS) for the National Elk Refuge and Grand Teton National Park/John D. Rockefeller, Jr., Memorial Parkway (Grand Teton National Park) is available. The final Plan/EIS was prepared pursuant to the National Wildlife Refuge System Administration Act of 1966, as amended (16 U.S.C. 668dd, et. seq.); the National Park Service Management Policies of 2006; and the National Environmental Policy Act (NEPA). The final Plan/EIS was prepared in cooperation with the U.S. Department of Agriculture Animal and Plant Health Inspection Service (APHIS); the U.S. Department of Agriculture Forest Service; the Bureau of Land Management (BLM); and the State of Wyoming Game and Fish Department (WGFD). The final Plan/EIS describes the U.S. Fish and Wildlife Service's and the National Park Service's proposal for management of the Jackson bison and elk populations within their respective jurisdictions for 15 years, beginning at the issuance of a Record of Decision (ROD) on the final Plan/EIS. The effects of six alternatives for the management of bison and elk populations for the National Elk Refuge and Grand Teton National Park are disclosed in the final Plan/EIS.

DATES: A ROD selecting the Preferred Alternative for implementation of the Bison and Elk Management Plan will be signed by the Regional Directors for the U.S. Fish and Wildlife Service (Region 6) and the National Park Service (Intermountain Region) no sooner than 30 days after the publication of this notice. March 5, 2007.

ADDRESSES: To review or obtain a copy of the final Plan/EIS, or to review public comments and hearing testimony, see “Document Review” under SUPPLEMENTARY INFORMATION.

FOR FURTHER INFORMATION CONTACT: Laurie Shannon, Planning Team Leader, Region 6, 134 Union Boulevard, Lakewood, Colorado 80028, 303-236-4317 (phone); 303-236-4792 (fax); laurie_shannon@fws.gov (e-mail).

SUPPLEMENTARY INFORMATION: The National Elk Refuge and Grand Teton National Park are located north of Jackson, Wyoming. Together with the Bridger-Teton National Forest, they make up most of the southern half of the Greater Yellowstone Ecosystem. The National Elk Refuge comprises approximately 24,700 acres, Grand Teton National Park comprises 309,995 acres, and the John D. Rockefeller Jr., Memorial Parkway is approximately 23,777 acres. The Jackson bison and elk herds make up one of the largest concentrations of free-ranging ungulates in North America. Currently, these herds number about 1,000 bison and 13,000 elk. The herds migrate across several jurisdictional boundaries, including Grand Teton National Park and southern Yellowstone National Park, Bridger-Teton National Forest, BLM resource areas, and State and private lands, before they winter primarily on the National Elk Refuge. Due to the wide range of authorities and interests, including management of resident wildlife by the State of Wyoming on many federal lands, the U.S. Fish and Wildlife Service and the National Park Service have used a cooperative approach to management planning involving all of the associated federal agencies and the WGFD.

A bison management plan (Jackson Bison Herd Long Term Management Plan and Environmental Assessment) was developed by the National Park Service and the U.S. Fish and Wildlife Service, in cooperation with the WGFD and the Bridger-Teton National Forest, and finalized in September 1996. In 1998, a lawsuit was brought by the Fund for Animals enjoining most federal management actions proposed in the 1996 plan. The court ruled that the destruction of bison on federal lands for population control purposes could not be carried out until additional NEPA compliance was completed for those actions. The court also directed that additional NEPA compliance consider the effects on the Jackson bison population of the supplemental winter-feeding of elk on the National Elk Refuge.

Significant issues addressed in the final Plan/EIS include: Bison and elk populations and their ecology; restoration of habitat and management of other species of wildlife; supplemental winter feeding operations of bison and elk; disease prevalence and transmission; recreational opportunities; cultural opportunities and western traditions and lifestyles; commercial operations; and the local and regional economy.

The U.S. Fish and Wildlife Service and the National Park Service, in cooperation with the WGFD and the other federal agencies, developed six alternatives for the management of bison and elk. These alternatives, as presented in the final Plan/EIS, include: Alternative 1—No Action; Alternative 2—Minimal Management of Habitat and Populations, Support Migration; Alternative 3—Restore Habitat, Support Migration, and Phase Back Supplemental Feeding; Alternative 4—Adaptively Manage Habitat and Populations; Alternative 5—Restore Habitat, Improve Forage, and Continue Supplemental Feeding; and Alternative 6—Restore Habitat, Adaptively Manage Populations, and Phase Out Supplemental Feeding.

Alternative 4, the agencies' Preferred Alternative in the final EIS, balances the major issues and stakeholder perspectives identified during the planning process, with the purposes, missions, and management policies of the U.S. Fish and Wildlife Service and the National Park Service. Assuming the WGFD's herd objective of 11,000 had been met, and that higher numbers of elk would use the winter range, the agencies would recommend that approximately 5,000 elk and 500 bison winter on the National Elk Refuge at the end of the first phase of implementation. The elk hunt on the National Elk Refuge, and elk herd reductions as needed in Grand Teton National Park would continue. A public bison hunt would be instituted on the National Elk Refuge and managed in accordance with the State of Wyoming licensing requirements and an approved refuge hunting plan. As herd sizes and objectives were achieved, further reductions in feeding or elk numbers could occur based on established criteria developed in collaboration with WGFD.

On July 21, 2005, the Fish and Wildlife Service and the National Park Service announced the availability of the draft Plan/EIS for public review and comment in the Federal Register (70 FR 42089-42090). During the public review period, the U.S. Fish and Wildlife Service and the National Park Service held a series of public open houses and formal hearings in Bozeman, Montana; Jackson, Wyoming; and Riverton, Wyoming, to allow public input on the proposed management plan and its alternatives. During the draft Plan/EIS comment period that occurred from July 21, 2005 to November 7, 2005, the agencies received more than 11,900 comments from 241 individuals (public hearing testimony, letters, and e-mails); 37 agencies or organizations; and 1,751 form letters or petitions. Some of the significant changes from the draft Plan/EIS that resulted from public comments include:

1. For all alternatives, the inclusion of a statement clarifying the desired conditions to be achieved by the end of 15-year plan. This statement briefly describes what the agencies intend to accomplish by implementing the plan. The goals of the plan, which include habitat conservation, sustainable populations, numbers of elk and bison, and disease management, would essentially remain the same with minor word changes to the sustainable population goal for Grand Teton National Park and the John D. Rockefeller, Jr., Memorial Parkway.

2. Modification of Alternative 4 (Preferred Alternative) to emphasize adaptive management of habitat and populations. The agencies, in cooperation with WGFD, would use existing conditions, trends, new research findings, and other changing circumstances to provide the basis for developing and implementing a dynamic framework for decreasing the need for supplemental food on the National Elk Refuge. As modified, Alternative 4 would not identify the number of years supplemental feeding would occur, but instead would emphasize achievement of the desired conditions by the end of the plan. Alternative 4 would implement a phased approach to reducing feeding, but would not dictate a timeline for phasing out or reducing feeding. Following implementation of the first phase, approximately 5,000 elk would be expected to winter on the refuge. As habitat objectives and herd sizes were achieved, further reductions in feeding or elk numbers could occur based on established criteria developed in collaboration with WGFD.

3. Target population for bison. Under Alternative 4, the agencies would work cooperatively with WGFD to maintain and ensure a genetically viable population of approximately 500 bison. The target bison population in Alternative 6 was modified to be about 500 animals instead of 400.

4. Modification of the bison hunt. Under Alternative 4, a public bison hunt on the refuge would be used to reduce the bison population to approximately 500 animals in accordance with the State of Wyoming licensing regulations and an approved refuge hunting plan. The U.S. Fish and Wildlife Service could potentially allow for the removal of a small number of bison by Native American tribes for ceremonial purposes, but unlike Alternative 3 and 6, it would not specify that it would be provided.

5. Development of a framework and criteria to reduce feeding. A key element of the modified Alternative 4 would be the development of a framework, developed in collaboration with WGFD, that would identify criteria necessary for progressively transitioning from intensive supplemental winter feeding to greater reliance on free-standing forage based on forage production, herd sizes, effective mitigation of bison-elk-cattle mingling on private lands, winter distribution patterns of elk and bison, prevalence of diseases, and public support.

6. Mitigation of conflicts on adjacent lands. Alternative 4 would adopt the mitigation components of Alternative 6 to work with private and agency partners to minimize conflicts with adjacent landowners by providing human and/or financial resources to manage co-mingling and reduce crop depredation by elk and/or bison on private lands.

7. Vaccination of elk and bison. Alternative 4, as modified, would accommodate WGFD vaccination of elk and bison for brucellosis on the refuge as long as it was logistically feasible and safe for wildlife.

8. Public education component. Alternative 4 would include the initiation of a public education effort to build understanding of natural elk and bison behavior, ecology, distribution, disease implications, and effects to other species.

All substantive issues raised in the comments were addressed in the final Plan/EIS. Responses to comments are included as a companion document to the final Plan/EIS. Public comments and hearing testimony are also available for review at the National Elk Refuge Headquarters, 675 East Broadway, Jackson, Wyoming 83001, during normal business hours. All information provided voluntarily by mail, phone, or at public meetings becomes part of the official public record (i.e., names, addresses, letters of comment, input recorded during meetings). If requested under the Freedom of Information Act by a private citizen or organization, the U.S. Fish and Wildlife Service may provide copies of such information.

The environmental review of this project will be conducted in accordance with the requirements of the NEPA Act of 1969, as amended (42 U.S.C. 4321 et seq.); Council on Environmental Quality NEPA Regulations); other appropriate Federal laws and regulations; Executive Order 12996; the National Wildlife Refuge System Improvement Act of 1997; and U.S. Fish and Wildlife Service policies and procedures for compliance with those laws and regulations.

Document Review

Final Plan/EIS

A copy of the final Plan/EIS may be obtained by writing to: Jackson Bison and Elk Management Planning Office, P.O. Box 510, Jackson, Wyoming 83001; by telephone: 307-733-9212; by e-mail: bisonelk_planning@fws.gov; or by download from the project Web site: http://bisonandelkplan.fws.gov.

The final Plan/EIS will be available for reading at the following main branch libraries: State of Wyoming: Albany County—Laramie; Fremont County—Dubois, Lander, and Riverton; Laramie County—Cheyenne; Lincoln County—Afton; Park County—Cody; Natrona County—Casper; Sheridan County—Sheridan; Sublette County—Pinedale and Big Piney; Sweetwater County—Rock Springs; and Teton County—Jackson and Alta. State of Idaho: Idaho Falls, Rexburg, Swan Valley and Victor. State of Montana: Bozeman, Livingston, Missoula, and Ennis. State of Colorado: Denver and Fort Collins. It will also be available at the following colleges and universities: State of Wyoming: Casper College Library, Casper; Central Wyoming College Library, Riverton; University of Wyoming Library, Laramie; Northwest College Library, Powell; Sheridan College Library, Sheridan; and Western Wyoming College Library, Rock Springs. State of Montana: Montana State University Library, Bozeman; and the University of Montana Library, Missoula. State of Idaho: Albertsons Library, Boise State University, Boise; University of Idaho Library, Moscow. State of Colorado: Colorado State University Library, Fort Collins.

Dated: November 9, 2006.
James J. Slack,
Deputy Regional Director, Region 6, Denver, Colorado.

[FR Doc. E7-1605 Filed 2-1-07; 8:45 am]

BILLING CODE 4310-55-P